DEPARTMENT OF ENERGY

Federal Energy Regulatory Commission

Combined Notice of Filings #1

August 25, 2006.

Take notice that the Commission received the following exempt wholesale generator filings:

Docket Numbers: EG06-74-000.

Applicants: FPL Energy Oliver Wind, LLC.

Description: FPL Energy Oliver Wind, LLC submits its Notice of Self Certification of Exempt Wholesale Generator Status.

Filed Date: 8/23/2006.

Accession Number: 20060823-5014.

Comment Date: 5 p.m. Eastern time on Wednesday, September 13, 2006.

Take notice that the Commission received the following electric rate filings:

Docket Numbers: ER97-2414-007.

Applicants: Lowell Cogeneration Company, Limited Partnership.

Description: Lowell Cogeneration Company Limited Partnership submits its Triennial Updated Market Analysis supporting continuation of its authorization to make sales of energy & capacity pursuant to FERC's 9/25/03 Order.

Filed Date: 08/23/2006.

Accession Number: 20060824-0081.

Comment Date: 5 p.m. Eastern time on Wednesday, September 13, 2006.

Docket Numbers: ER97-2801-013.

Applicants: PacifiCorp.

Description: PacifiCorp submits an updated market power analysis in compliance with the Commission's letter of 6/21/06; additional material submitted on 8/23/06.

Filed Date: 8/21/2006; 8/23/2006.

Accession Number: 20060823-0134.

Comment Date: 5 p.m. Eastern time on Monday, September 11, 2006.

Docket Numbers: ER98-2603-005.

Applicants: Southwood 2000, Inc.

Description: Southwood 2000, Inc. submits an amendment to its 7/7/05 Updated Market Power Analysis.

Filed Date: 8/17/2006.

Accession Number: 20060823-0056.

Comment Date: 5 p.m. Eastern time on Thursday, September 7, 2006.

Docket Numbers: ER04-925-010.

Applicants: Merrill Lynch Commodities, Inc.

Description: Merrill Lynch Commodities, Inc. submits a notice of non-material change in circumstance.

Filed Date: 8/18/2006.

Accession Number: 20060823-0055.

Comment Date: 5 p.m. Eastern time on Friday, September 8, 2006.

Docket Numbers: ER05-406-001.

Applicants: Williams Power Company, Inc.

Description: Williams Power Company, Inc. submits a Revised Refund Report, pursuant to the Commission's Order issued 3/21/06.

Filed Date: 8/23/2006.

Accession Number: 20060823-5018.

Comment Date: 5 p.m. Eastern time on Wednesday, September 13, 2006.

Docket Numbers: ER05-856-004.

Applicants: Virginia Electric and Power Company.

Description: Virginia Electric and Power Co. submits the Second Revised Service Agreement 21 for the Purchase of Electricity for Resale with the Town of Windsor.

Filed Date: 8/23/2006.

Accession Number: 20060824-0083.

Comment Date: 5 pm Eastern time on Wednesday, September 13, 2006.

Docket Numbers: ER05-1507-002.

Applicants: New York Independent System Operator, Inc.

Description: New York Independent System Operator, Inc. submits a compliance filing to revise Section 8.4 of its Market Administration and Control Area Services Tariff pursuant to FERC's 7/21/06 Order.

Filed Date: 8/21/2006.

Accession Number: 20060823-0057.

Comment Date: 5 p.m. Eastern time on Monday, September 11, 2006.

Docket Numbers: ER06-731-003.

Applicants: Midwest Independent Transmission System Operator, Inc.

Description: Midwest Independent Transmission System Operator, Inc. submits revisions to the Midwest ISO's Open Access Transmission and Energy Markets Tariff regarding the Broad Constrained Area Mitigation Provisions.

Filed Date: 8/21/2006.

Accession Number: 20060823-0058.

Comment Date: 5 p.m. Eastern time on Monday, September 11, 2006.

Docket Numbers: ER06-818-002.

Applicants: San Diego Gas & Electric Company.

Description: San Diego Gas & Electric Co. submits a corrected tariff sheet designation to comply with FERC's 8/7/06 Letter Order.

Filed Date: 8/22/2006.

Accession Number: 20060823-0138.

Comment Date: 5 p.m. Eastern time on Tuesday, September 12, 2006.

Docket Numbers: ER06-917-001.

Applicants: PacifiCorp.

Description: PacifiCorp submits its Sixth Revised Volume 11 Pro Forma Open Access Transmission Tariff conforming to the requirements of Order 614.

Filed Date: 8/23/2006.

Accession Number: 20060824-0021.

Comment Date: 5 p.m. Eastern time on Wednesday, September 13, 2006.

Docket Numbers: ER06-1047-002; ER06-451-006.

Applicants: Southwest Power Pool, Inc.

Description: Southwest Power Pool, Inc. submits a compliance filing providing for revisions to its Open Access Transmission Tariff pursuant to FERC's 7/20/06 Order.

Filed Date: 8/21/2006.

Accession Number: 20060823-0053.

Comment Date: 5 p.m. Eastern time on Monday, September 11, 2006.

Docket Numbers: ER06-1272-001.

Applicants: Reliant Energy Power Supply, LLC.

Description: Reliant Energy Power Supply, LLC submits a clean version and blacklined version of its revised tariff which was submitted on 7/21/06.

Filed Date: 8/22/2006.

Accession Number: 20060823-0137.

Comment Date: 5 p.m. Eastern time on Tuesday, September 12, 2006.

Docket Numbers: ER06-1331-001.

Applicants: CalPeak Power LLC.

Description: CalPeak Power LLC submits a limited amendment to its 8/2/06 filing to amend the language in Section 10 Change in Status etc.

Filed Date: 8/18/2006.

Accession Number: 20060823-0054.

Comment Date: 5 p.m. Eastern time on Friday, September 8, 2006.

Docket Numbers: ER06-1355-001.

Applicants: Evergreen Wind Power, LLC.

Description: Evergreen Wind Power, LLC submits an amended FERC Electric Tariff, Original Volume No. 1.

Filed Date: 8/23/2006.

Accession Number: 20060824-0082.

Comment Date: 5 p.m. Eastern time on Wednesday, September 13, 2006.

Docket Numbers: ER06-1391-000.

Applicants: San Diego Gas & Electric Company.

Description: San Diego Gas & Electric Co. submits the Power Flow Altering Device Memorandum of Understanding with Imperial Irrigation District.

Filed Date: 8/22/2006.

Accession Number: 20060823-0136.

Comment Date: 5 p.m. Eastern time on Tuesday, September 12, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-16265 Filed 9-29-06; 8:45 am]

BILLING CODE 6717-01-P